FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License no. | Name/address | Date reissued
16805F | E.I.B. Brokers, Inc., 2550 NW. 72nd Avenue, Miami, FL 33122 | June 26, 2003.
4407F | JCC International, Inc., 6275 N. State Road 7, Madison, IN 47250 | July 17, 2003.
4478F | Marina Ocean Air International, LLC, 811 Grandview Drive, South San Francisco, CA 94083 | July 23, 2003.
12539F | Miller Intermodal Logistics Services, Inc., 5500 Highway 80 West, P.O. Box 1123, Jackson, MS 32915-1123 | August 14, 2003.
4217F | Reliable Van & Storage Co., Inc., 550 Division Street, Elizabeth, NJ 07201 | January 15, 2003.

Sandra L. Kusumoto,
Director, Bureau of Consumer Complaints and Licensing.

[FR Doc. 03-25529 Filed 10-7-03; 8:45 am]

BILLING CODE 6730-01-P